DEPARTMENT OF COMMERCE

International Trade Administration

Notice of Charter Renewal

SUMMARY: The Department of Commerce Chief Financial Officer and Assistant Secretary for Administration has renewed the charter for the U.S. Travel and Tourism Advisory Board (Board) for a 2-year period, through September 21, 2009. The Board is a federal advisory committee under the Federal Advisory Committee Act (5 U.S.C. App. 2).

SUPPLEMENTARY INFORMATION: The U.S. Travel and Tourism Advisory Board was first established on September 21, 2005, by the Secretary of Commerce, pursuant to his duties as authorized by law, in accordance with the Federal Advisory Committee Act, and with the concurrence of the General Services Administration.

Pursuant to Department of Commerce authority under 15 U.S.C. 1512, the Board shall advise the Secretary of Commerce on matters relating to the U.S. travel and tourism industries. The Board shall act as a liaison among the stakeholders represented by the membership and shall provide a forum for those stakeholders on current and emerging issues in the travel and tourism industry, ensuring regular contact between the government and the travel and tourism sector. The Board shall advise the Secretary on government policies and programs that affect the U.S. travel and tourism industry, offer counsel on current and emerging issues, and provide a forum for discussing and proposing solutions to industry-related problems.

The U.S. Travel and Tourism Advisory Board consists of up to fifteen members appointed by the Secretary of Commerce. Members represent companies and organizations in the travel and tourism industry from a broad range of products and services, company sizes and geographic locations. The Board plans to maintain this broad balance in order to incorporate the views of the wide range of travel and tourism oriented industries. Prior membership included representatives of the hotel, airline, restaurant, retail, amusement park, and guided tour industries, as well as representatives of city and state tourism and convention bureaus.

The Board will function solely as an advisory body, and in compliance with the provisions of the Federal Advisory Committee Act, its implementing regulations, and applicable Department of Commerce policies.

FOR FURTHER INFORMATION CONTACT: Kate Worthington, Deputy Director, Office of Advisory Committees, (202) 482-4260.

Dated: October 11, 2007.
Kate Worthington,
Deputy Director, Office of Advisory Committees, U.S. Department of Commerce.

[FR Doc. E7-20915 Filed 10-23-07; 8:45 am]

BILLING CODE 3510-DR-P